DEPARTMENT OF COMMERCE

Bureau of Industry and Security

President's Export Council, Subcommittee on Export Administration; Notice of Open Meeting

The President's Export Council Subcommittee on Export Administration (PECSEA) will meet on September 19 and 20, 2011, 10 a.m., at the Sofitel Hotel Miami, 5800 Blue Lagoon Drive, Miami, Florida 33126. The PECSEA provides advice on matters pertinent to those portions of the Export Administration Act, as amended, that deal with United States policies of encouraging trade with all countries with which the United States has diplomatic or trading relations and of controlling trade for national security and foreign policy reasons.

Monday, September 19

Open Session

1. Export Control Reform Field Hearing.

Tuesday, September 20

Open Session

1. Welcome and Remarks by the Chairman and Vice Chair.

2. Export Control Reform Update.

3. Presentation of Papers or Comments by the Public.

4. Review of Field Hearing.

5. Status of 2011 Workplan.

6. Discussion of 2012 Workplan.

7. Subcommittee Breakout Sessions.

A limited number of seats will be available for the public sessions on both days. Reservations are not accepted. To the extent time permits, members of the public may present oral statements to the PECSEA. Written statements may be submitted at any time before or after the meeting. However, to facilitate distribution of public presentation materials to PECSEA members, the PECSEA suggests that public presentation materials or comments be forwarded before the meeting to Ms. Yvette Springer at Yvette.Springer@bis.doc.gov.

FOR FURTHER INFORMATION CONTACT: Yvette Springer on 202-482-2813.

Dated: August 16, 2011.
Kevin J. Wolf,
Assistant Secretary for Export Administration.

[FR Doc. 2011-21649 Filed 8-23-11; 8:45 am]

BILLING CODE 3510-JT-P